DEPARTMENT OF AGRICULTURE

Commodity Credit Corporation

Chesapeake Bay Watershed Initiative

AGENCY: Natural Resources Conservation Service and Commodity Credit Corporation, United States Department of Agriculture (USDA).

ACTION: Notice of availability of program funds for the Chesapeake Bay Watershed Initiative.

SUMMARY: The Commodity Credit Corporation (CCC) announces the availability of an additional $23 million of technical and financial assistance funds in fiscal year (FY) 2009 through the Chesapeake Bay Watershed Initiative to agricultural producers in eligible states. These states are: Delaware, Maryland, New York, Pennsylvania, Virginia, and West Virginia. The Chesapeake Bay Watershed Initiative funds are available to help producers implement natural resources conservation practices on agricultural lands in the Chesapeake Bay watershed.

DATES: January 22, 2009.

FOR FURTHER INFORMATION CONTACT: Lillian Woods, Acting Director, Conservation Planning and Technical Assistance Division, Natural Resources Conservation Service, P.O. Box 2890, Washington, DC 20013; phone (202) 720-8851; fax (202) 720-2998. Submit electronic requests for additional information to: dan.lawson@wdc.usda.gov.

SUPPLEMENTARY INFORMATION: CCC hereby announces up to $23 million to provide technical and financial assistance to producers under the Chesapeake Bay Watershed Initiative in FY 2009.

Section 1240Q of the Food Security Act, as added by the Food, Conservation, and Energy Act of 2008 (Pub. L. 110-246) (2008 Act), established the Chesapeake Bay Watershed Initiative and defined the Chesapeake Bay Watershed to mean all tributaries, backwaters, and side channels, including their watersheds, draining into the Chesapeake Bay. This area includes portions of the states of Delaware, Maryland, New York, Pennsylvania, Virginia, and West Virginia. The NRCS administers the Chesapeake Bay Watershed Initiative and carries out program implementation using funds, facilities, or authorities of CCC. The Initiative gives special, but not exclusive, consideration to producers' applications in the following river basins: Susquehanna River, Shenandoah River, Potomac River (including North and South Potomac), and the Patuxent River.

The Chesapeake Bay Watershed Initiative helps agricultural producers improve water quality and quantity, and restore, enhance, and preserve soil, air, and related resources in the Chesapeake Bay watershed through the implementation of conservation practices. These conservation practices reduce soil erosion and nutrient levels in ground and surface water, improve, restore, and enhance wildlife habitat, and help address air quality and related natural resource concerns. The Initiative is carried out through the various natural resources conservation programs authorized under subtitle D, Title XII of the Food Security Act of 1985, 16 U.S.C. 3830-3839bb-5. The Chesapeake Bay Watershed Initiative assistance in FY 2009 will be delivered through the Environmental Quality Incentives Program (EQIP). All EQIP requirements and policies will apply (see 7 CFR Part 1466).

Individuals interested in applying for Chesapeake Bay Watershed Initiative assistance may contact their local USDA service center in the eligible Chesapeake Bay Watershed Initiative states. For a listing of local service centers, consult: http://offices.sc.egov.usda.gov/locator/app?agency=nrcs.

Signed in Washington, DC on January 14, 2009.
Arlen L. Lancaster,
Vice President, Commodity Credit Corporation and Chief, Natural Resources Conservation Service.

[FR Doc. E9-1168 Filed 1-21-09; 8:45 am]

BILLING CODE 3410-16-P